DEPARTMENT OF COMMERCE

International Trade Administration

[A-570-124, C-570-125]

Certain Vertical Shaft Engines Between 99cc and Up to 225cc and Parts Thereof From the People's Republic of China: Notice of Court Decision Not in Harmony With Final Scope Ruling and Notice of Amended Final Scope Ruling Pursuant to Court Decision

AGENCY: Enforcement and Compliance, International Trade Administration, Department of Commerce.

SUMMARY: On October 2, 2024, the U.S. Court of International Trade (CIT) issued its final judgment in Zhejiang Amerisun Technology Co., Ltd. v. United States, Court No. 23-00011, sustaining the U.S. Department of Commerce's (Commerce) remand redetermination pertaining to the scope ruling for the antidumping and countervailing duty orders on certain vertical shaft engines between 99cc and up to 225cc and parts thereof from the People's Republic of China finding modified vertical shaft engines, such as the modified R210-S engine manufactured by Chongqing Rato Technology Co., Ltd. (Chongqing Rato) to be excluded from the orders. Commerce is notifying the public that the CIT's final judgment is not in harmony with Commerce's scope ruling, and that Commerce is amending the scope ruling to find that certain engines, such as Chongqing Rato's R210-S engine, manufactured by Chongqing Rato is excluded from the orders.

DATES: Applicable October 12, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On December 22, 2022, Commerce found that modified vertical shaft engines, such as the R210-S engine manufactured by Chongqing Rato, were included in the scope of the orders.¹

¹ See Memorandum, “Scope Ruling on Modified Vertical Shaft Engines,” dated December 22, 2022 (Final Scope Ruling).

Zhejiang Amerisun Technology, Co., Ltd. appealed Commerce's Final Scope Ruling. On February 20, 2024, the CIT remanded the Final Scope Ruling to Commerce, holding that: (1) because the scope does not specify that a right-angle gearbox connected to the horizontal crankshaft may be part of the engine, Commerce's finding that the scope did not contain an exhaustive list of components that may comprise an engine was unsupported by substantial evidence and not in accordance with law; (2) the Wikipedia articles submitted by Briggs & Stratton Corporation (the petitioner) on which Commerce relied to support its factual conclusions were unreliable and irrelevant; and (3) an academic article submitted by the petitioner on which Commerce also relied to support its factual conclusions was irrelevant because it did not specifically address walk-behind lawn mowers or discuss secondary drive shafts.²

² See Zhejiang Amerisun Technology Co., Ltd. v. United States, 687 F. Supp. 3d 1282 (CIT 2024).

In its final remand redetermination, issued in April 2024, Commerce found that certain engines, such as Chongqing Rato's R210-S engine at issue in the Final Scope Ruling to be excluded from the scope of the orders.³ The CIT sustained Commerce's final redetermination.⁴

³ See Final Results of Redetermination Pursuant to Court Remand, Zhejiang Amerisun Technology Co., Ltd. v. United States, Consol. Court No. 23-00011, Slip Op. 24-20 (CIT February 20, 2024), dated April 11, 2024, available at https://access.trade.gov/public/FinalRemandRedetermination.aspx.

⁴ See Zhejiang Amerisun Technology Co., Ltd. v. United States, Court No. 23-00011, Slip. Op. 24-104 (CIT October 2, 2024).

Timken Notice

In its decision in Timken,⁵ as clarified by Diamond Sawblades,⁶ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's October 2, 2024, judgment constitutes a final decision of the CIT that is not in harmony with Commerce's Final Scope Ruling. Thus, this notice is published in fulfillment of the publication requirements of Timken.

⁵ See Timken Co. v. United States, 893 F.2d 337 (Fed. Cir. 1990) (Timken).

⁶ See Diamond Sawblades Manufacturers Coalition v. United States, 626 F.3d 1374 (Fed. Cir. 2010) (Diamond Sawblades).

Amended Final Scope Ruling

In accordance with the CIT's October 2, 2024, final judgment, Commerce is amending its Final Scope Ruling and finds that the scope of the orders does not cover the products addressed in the Final Scope Ruling.

Liquidation of Suspended Entries

Commerce will instruct U.S. Customs and Border Protection (CBP) that, pending any appeals, the cash deposit rate will be zero percent for the modified R210-S engine manufactured by Chongqing Rato. In the event that the CIT's final judgment is not appealed or is upheld on appeal, Commerce will instruct CBP to liquidate entries of the modified R210-S engine manufactured by Chongqing Rato without regard to antidumping and countervailing duties and to lift suspension of liquidation of such entries.

At this time, Commerce remains enjoined by CIT from liquidating entries excluded from the scope of the orders by the Final Scope Ruling. These entries will remain enjoined pursuant to the terms of the injunction during the pendency of any appeals process.

Notification to Interested Parties

This notice is issued and published in accordance with sections 516A(c) and (e) and 777(i)(1) of the Act.

Dated: October 8, 2024.
Ryan Majerus,
Deputy Assistant Secretary for Policy and Negotiations, performing the non-exclusive functions and duties of the Assistant Secretary for Enforcement and Compliance.

[FR Doc. 2024-23695 Filed 10-11-24; 8:45 am]

BILLING CODE 3510-DS-P